FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: General Admissions Application and General Admissions Application Short Form.

Type of Information Collection: Revision of a currently approved collection.

OMB Number: 3067-0024.

Abstract: NFA and EMI (located at the National Emergency Training Center (NETC) in Emmitsburg, Maryland) use FEMA Forms 75, General Admissions Application, and 75-5a, General Admissions Application Short Form, to admit applicants to resident courses and programs offered at NETC, Mount Weather Emergency Assistance Center (MWEAC) and various locations throughout the United States. Information from the application forms is maintained in the Admissions System. The system (1) provides a consolidated record of all FEMA training taken by a student; (2) identifies or verifies participation in any prerequisite courses; (3) produces a transcript which can be used by the student in requesting college credit or continuing education units for courses completed; (4) provides statistical information to members of Congress, members of the respective Boards of Visitors, sponsoring states or local officials; and (5) determines which students receive stipends for attending NFA or EMI courses.

Affected Public: Individuals or households, Business or other for-profit, Not-for-profit institutions, Federal Government, and State, Local or Tribal government.

Number of Respondents: 65,000.

Estimated Time per Respondent: 9 minutes for FEMA Form 75-5 and 6 minutes for FEMA Form 75-5a.

Estimated Total Annual Burden Hours: 8,500.

Frequency of Response: As requested.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, FEMA Information Collections Officer, Federal Emergency Management Agency, 500 C Street, SW, Room 316, Washington, DC 20472. Telephone number (202) 646-2625. FAX number (202) 646-3524 or email muriel.anderson@fema.gov.

Virginia Akers,
Acting Director, Program Services Division, Operations Support Directorate.

[FR Doc. 00-11263 Filed 5-4-00; 8:45 am]

BILLING CODE 6718-01-P